DEPARTMENT OF THE INTERIOR

Bureau of Land Management

[A2407-014-004-065516, #O2509-014-004-125222; LLAK941200; AKAK106589311; FF-14223, AKAK106577812; F-16304]

Public Land Order No. 7966; Partial Revocation of Public Land Order Nos. 5150 and 5180, as Amended, Modified, or Corrected; Alaska

AGENCY: Bureau of Land Management, Interior.

ACTION: Public land order.

SUMMARY: This order partially revokes two Public Land Orders (PLOs) insofar as they affect approximately 2,127,845 acres of public land reserved for use as the Dalton Utility Corridor and for study and classification, as appropriate, by the Department of the Interior. Revocation of the PLOs within the Dalton Utility Corridor opens these lands to mineral and resource development opportunity. The Bureau of Land Management (BLM) analyzed partial revocation of these PLOs in the Final Environmental Impact Statement for the Central Yukon Proposed Resource Management Plan, published April 19, 2024.

DATES: This PLO takes effect on February 25, 2026.

FOR FURTHER INFORMATION CONTACT: Brittany Templeton, Realty Specialist, Bureau of Land Management (BLM) Alaska State Office, 222 West Seventh Avenue, Mailstop #13, Anchorage, AK 99513-7504, (907) 271-4214, or btempleton@blm.gov. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: The two PLOs revoked in part by this order were established pursuant to Executive Order 10355, section 17(d)(1) of the Alaska Native Claims Settlement Act (ANCSA), and section 17(c) of ANCSA. The BLM analyzed partial revocation of these PLOs and the opening of the affected lands for location and entry under the public mining laws, and to selection by the State of Alaska under the Alaska Statehood Act in the Final Environmental Impact Statement for the Central Yukon Proposed Resource Management Plan (PRMP/FEIS). The BLM has determined that the analysis in the PRMP/FEIS is adequate to support this decision.

The BLM analyzed the effects of this action and determined, pursuant to section 810 of the Alaska National Interest Lands Conservation Act, that (A) Such a significant restriction of subsistence uses is necessary, consistent with sound management principles for the utilization of public lands; (B) These partial revocations will involve the minimal amount of public lands necessary to accomplish the purposes of these revocations; and (C) Reasonable steps will be taken to minimize the adverse impacts upon subsistence uses and resources from these revocations.

PLO No. 5150, as amended, modified, or corrected, withdrew public lands for use as a utility and transportation corridor within the meaning of ANCSA 17(c) in aid of programs for the U.S. Government and the State of Alaska. PLO No. 5180, as amended, modified, or corrected, withdrew public lands to allow for classification and for the protection of the public interest in these lands.

Order

By virtue of the authority vested in the Secretary of the Interior by section 204 of the Federal Land Policy and Management Act of 1976, 43 U.S.C. 1714, and section 17(d)(1) of the Alaska Native Claims Settlement Act of 1971, 43 U.S.C. 1616(d)(1), it is ordered as follows:

1. Subject to valid existing rights, Public Land Order Nos. 5150 (36 FR 25410) and 5180 (37 FR 5583) and any amendments, modifications, or corrections to these Orders, if any, are hereby partially revoked, insofar as they affect the following described public lands:

Fairbanks Meridian, Alaska

T. 33 N., R. 9 W., unsurveyed.

T. 34 N., R. 9 W., unsurveyed,

Secs. 1 thru 23;

Sec. 24, excepting U.S. Survey No. 5268;

Secs. 25 thru 36.

Tps. 35, 36, and 37 N., R. 9 W., unsurveyed.

T. 12 N., R. 10 W.,

Secs. 1 thru 6;

Sec. 7, lot 1, including U.S. Survey No. 12924;

Sec. 8 and 9;

Sec 10, lot 1;

Sec. 11, lot 1;

Sec. 12, lot 1.

T. 13 N., R. 10 W., unsurveyed.

T. 30 N., R. 10 W., unsurveyed.

T. 31 N., R. 10 W., unsurveyed,

Secs. 1 thru 18;

Sec. 19, excepting lots 1 and 2, U.S. Survey No. 5199;

Secs. 20 thru 29;

Sec. 30, excepting lot 2, U.S. Survey No. 5199;

Secs. 31 thru 36.

T. 32 N., R. 10 W, unsurveyed,

Secs. 1 thru 5;

Secs. 6 and 7, those portions lying outside the boundary of Gates of the Arctic National Park;

Secs. 8 thru 17;

Secs. 18 and 19, those portions lying outside the boundary of Gates of the Arctic National Park;

Secs. 20 thru 29;

Secs. 30 and 31, those portions lying outside the boundary of Gates of the Arctic National Park;

Secs. 32 thru 36.

T. 33 N., R. 10 W., unsurveyed,

Secs. 1 thru 4;

Secs. 5, 8, and 9, those portions lying outside the boundary of Gates of the Arctic National Park;

Secs. 10 thru 15;

Secs. 16, 20, and 21, those portions lying outside the boundary of Gates of the Arctic National Park;

Secs. 22 thru 28;

Secs. 29 and 32, those portions lying outside the boundary of Gates of the Arctic National Park;

Secs. 33 thru 36.

T. 34 N., R. 10 W., unsurveyed,

Secs. 1 thru 5;

Sec. 6, that portion lying outside the boundary of Gates of the Arctic National Park;

Secs. 7 thru 18;

Sec. 19, that portion lying outside the boundary of Gates of the Arctic National Park;

Secs. 20 thru 28;

Secs. 29, 30, and 32, those portions lying outside the boundary of Gates of the Arctic National Park;

Secs. 33 thru 36.

T. 35 N., R. 10 W., unsurveyed,

Secs. 1 thru 5;

Secs. 6 and 7, those portions lying outside the boundary of Gates of the Arctic National Park;

Secs. 8 thru 17;

Secs. 18 and 19, those portions lying outside the boundary of Gates of the Arctic National Park;

Secs. 20 thru 29;

Secs. 30 and 31, those portions lying outside the boundary of Gates of the Arctic National Park;

Secs. 32 thru 36.

T. 36 N., R. 10 W., unsurveyed,

Secs. 1, 2, and 3;

Secs. 4, 5, 8, and 9, those portions lying outside the boundary of Gates of the Arctic National Park;

Secs. 10 thru 16;

Sec. 17, that portion lying outside the boundary of Gates of the Arctic National Park;

Sec. 20, that portion lying outside the boundary of Gates of the Arctic National Park, excepting lot 2, U.S. Survey No. 11859;

Sec. 21, excepting U.S. Survey No. 11859;

Secs. 22 thru 28;

Secs. 29 thru 32, those portions lying outside the boundary of Gates of the Arctic National Park;

Secs. 33 thru 36.

T. 37 N., R. 10 W., unsurveyed,

Secs. 25 and 26;

Secs. 27, 28, and 33, those portions lying outside the boundary of Gates of the Arctic National Park;

Secs. 34, 35, and 36.

T. 12 N., R. 11 W.,

Sec. 1, lot 1;

Sec. 2, lots 1 and 2;

Sec. 3, lots 1 thru 4;

Secs. 4 thru 9;

Sec. 10, lots 1, 2, and 3;

Sec.11, lot 1;

Sec. 12, lot 1;

Sec. 14, lot 1;

Sec. 15, lot 1;

Secs. 16, 17, and 18;

Sec. 19, lots 1 and 2;

Sec. 20, lot 1;

Sec. 21, lot 1;

Sec. 22, lot 1;

Sec. 23, lot 2;

Sec. 30, lot 1.

T. 13 N., R. 11 W.,

Secs. 1 thru 20;

Sec. 21, lot 1;

Sec. 22, lot 1;

Secs. 23 and 24;

Sec. 25, lot 1;

Sec. 26, lot 1;

Secs. 27 thru 34;

Sec. 35, lot 1;

Sec. 36;

U.S. Survey No. 12920.

Tps. 14, 15, and 16 N., R. 11 W.

Tps. 27 thru 30 N., R. 11 W., unsurveyed.

T. 31 N., R. 11 W., unsurveyed,

Secs. 1, 2, 7, 8, 9, and 11, those portions lying outside the boundary of Gates of the Arctic National Park;

Sec. 12 and 13;

Secs. 14 thru 17, those portions lying outside the boundary of Gates of the Arctic National Park;

Secs. 18 thru 21;

Secs. 22 and 23, those portions lying outside the boundary of Gates of the Arctic National Park;

Sec. 24, excepting U.S. Survey No. 5199;

Sec. 25, excepting lot 2, U.S. Survey No. 5199;

Secs. 26 thru 36.

T. 32 N., R. 11 W., unsurveyed,

Sec. 36, that portion lying outside the boundary of Gates of the Arctic National Park.

T. 34 N., R. 11 W., unsurveyed,

Secs. 1, 11, and 12, those portions lying outside the boundary of Gates of the Arctic National Park;

Sec. 13;

Secs. 14, 23, and 24, those portions lying outside the boundary of Gates of the Arctic National Park.

T. 36 N., R. 11 W., unsurveyed,

Secs. 25 and 36, those portions lying outside the boundary of Gates of the Arctic National Park.

Tps.13 thru 18 N., R. 12 W.

Tps. 25, 26, and 27 N., R. 12 W., unsurveyed.

T. 28 N., R. 12 W., unsurveyed,

Secs. 1 and 2;

Sec. 4, excepting Tentative Approval F-85336;

Secs. 5 thru 8;

Sec. 9, excepting Tentative Approval F-85336;

Secs. 11 thru 14;

Sec. 16, excepting U.S. Survey Nos. 12937 and 13175 and Tentative Approval F-85336;

Sec. 17, excepting Tentative Approval F-85336;

Secs. 18 and 19;

Sec. 20, excepting Tentative Approval F-85336;

Secs. 23 thru 36;

U.S. Survey Nos. 12937 and 13175.

T. 29 N., R. 12 W., unsurveyed,

Secs. 1 thru 5;

Sec. 6, that portion lying outside the boundary of Gates of the Arctic National Park;

Secs. 7 thru 22;

Sec. 23, excepting U.S. Survey No. 13176 and Tentative Approval F-85362;

Sec. 25, S½;

Sec. 26, excepting lot 2, U.S. Survey No. 13176 and Tentative Approval F-85362;

Sec. 27, excepting Tentative Approval F-85362;

Secs. 28 thru 33;

Secs. 34 and 35, excepting Tentative Approval F-85362;

Sec. 36;

U.S. Survey No. 13176.

T. 30 N., R. 12 W., unsurveyed,

Secs. 1 thru 4;

Secs. 5 and 8, those portions lying outside the boundary of Gates of the Arctic National Park;

Secs. 9 thru 16;

Secs. 17 and 20, those portions lying outside the boundary of Gates of the Arctic National Park;

Secs. 21, 22, and 23;

Sec. 24, excepting U.S. Survey No. 4181, lots 1 thru 17 and lots 19 thru 26, U.S. Survey No. 5276, and lots 1, 3, and 4, U.S. Survey No. 7319;

Sec. 25, excepting lots 3 and 4, U.S. Survey No. 7319;

Secs. 26, 27, and 28;

Secs. 29, 31, and 32, those portions lying outside the boundary of Gates of the Arctic National Park;

Secs. 33 thru 36;

lots 1 thru 17 and lots 19 thru 26, U.S. Survey No. 5276;

lot 3, U.S. Survey No. 7319.

T. 31 N., R. 12 W., unsurveyed,

Sec. 2 and secs. 9 thru 12, those portions lying outside the boundary of Gates of the Arctic National Park;

Secs. 13, 14, and 15;

Secs. 16, 17, and 20, those portions lying outside the boundary of Gates of the Arctic National Park;

Secs. 21 thru 28;

Secs. 29 and 32, those portions lying outside the boundary of Gates of the Arctic National Park;

Secs. 33 thru 36.

Tps. 14 thru 18 N., R. 13 W.

Tps. 19 thru 26 N., R. 13 W., unsurveyed.

T. 27 N., R. 13 W., unsurveyed,

Secs. 1 thru 16;

Secs. 17 and 20, those portions lying outside the boundary of Gates of the Arctic National Park;

Secs. 21 thru 36.

T. 28 N., R. 13 W., unsurveyed,

Secs. 1 and 2;

Secs. 3, 4, 5, 7, and 8, those portions lying outside the boundary of Gates of the Arctic National Park;

Secs. 9 thru 17;

Sec. 18, that portion lying outside the boundary of Gates of the Arctic National Park;

Secs. 19 thru 36.

T. 29 N., R. 13 W.,

Secs. 23, 24, 25, 35, and 36, those portions lying outside the boundary of Gates of the Arctic National Park.

Tps. 15 thru 17 N., R. 14 W., unsurveyed.

T. 18 N., R. 14 W., unsurveyed,

Secs. 1, 2, and 3;

Sec. 4, excepting lot 1 and 2, U.S. Survey No. 6892;

Secs. 5 thru 8;

Sec. 9, excepting U.S. Survey No. 6892;

Secs. 10 thru 36;

U.S. Survey No. 6892, lots 2, 4, and 6.

Tps. 19 thru 22 N., R. 14 W., unsurveyed.

T. 23 N., R. 14 W., unsurveyed, including Mineral Survey No. 2425.

Tps. 24 and 25 N., R. 14 W., unsurveyed.

T. 26 N., R. 14 W., unsurveyed,

Sec. 1, E½;

Sec. 12, E½ and E½SW¼;

Sec. 13, E½, E½NW¼, SW¼NW¼, and SW¼;

Secs. 14, 15, 16, 20, and 21, those portions lying outside the boundary of Gates of the Arctic National Park;

Secs. 22 thru 28;

Secs. 29 and 30, those portions lying outside the boundary of Gates of the Arctic National Park;

Secs. 31 thru 36.

T. 27 N., R. 14 W., unsurveyed,

Sec. 1;

Secs. 2 and 11, those portions lying outside the boundary of Gates of the Arctic National Park;

Sec. 12;

Sec. 36, E½.

T. 28 N., R. 14 W.,

Secs. 13, 24, 25, 35, and 36, those portions lying outside the boundary of Gates of the Arctic National Park.

Tps. 17 thru 25 N., R. 15 W., unsurveyed.

T. 26 N., R. 15 W., unsurveyed,

Secs. 25 thru 29 and Secs. 31 and 32, those portions lying outside the boundary of Gates of the Arctic National Park;

Secs. 33 and 34;

Secs. 35, that portion lying outside the boundary of Gates of the Arctic National Park;

Sec. 36.

T. 19 N., R. 16 W., unsurveyed,

Secs. 1 thru 7;

Sec. 8, excepting U.S. Survey No. 13858;

Secs. 9 thru 16;

Sec. 17, excepting U.S. Survey No. 13858;

Secs. 18 thru 36.

Tps. 20, 21, and 22 N., R. 16 W., unsurveyed.

T. 23 N., R. 16 W., unsurveyed,

Secs. 1 thru 5;

Sec. 6, excepting U.S. Survey No. 6313;

Secs. 7 thru 36.

T. 24 N., R. 16 W., unsurveyed.

Umiat Meridian, Alaska

T. 16 S., R. 10 E., unsurveyed,

Secs. 1, 2, and 3;

Secs. 4, 5, 6, 9, and 10, those portions lying outside the boundary of Gates of the Arctic National Park;

Secs. 11 thru 14;

Secs. 15 and 22, those portions lying outside the boundary of Gates of the Arctic National Park;

Secs. 23 thru 26;

Secs. 27, 33, and 34, those portions lying outside the boundary of Gates of the Arctic National Park;

Secs. 35 and 36.

T. 17 S., R. 10 E., unsurveyed,

Secs. 1, 2, and 3;

Sec. 4, that portion lying outside the boundary of Gates of the Arctic National Park.

Tps. 9, 10, and 11 S., R. 11 E., unsurveyed.

T. 12 S., R. 11 E., unsurveyed,

Secs. 1 thru 5;

Secs. 6, 7, and 8, those portions lying outside the boundary of Gates of the Arctic National Preserve;

Secs. 9 thru 16;

Secs. 17, 18, and 20, those portions lying outside the boundary of Gates of the Arctic National Preserve;

Secs. 21 thru 28;

Secs. 29, 32, and 33, those portions lying outside the boundary of Gates of the Arctic National Preserve;

Secs. 34, 35, and 36.

T. 13 S., R. 11 E., unsurveyed,

Secs. 1 and 2;

Secs. 3, 10, and 11, those portions lying outside the boundary of Gates of the Arctic National Preserve;

Secs. 12 and 13;

Secs. 14, 15, and 22, those portions lying outside the boundary of Gates of the Arctic National Preserve;

Secs. 23 thru 26;

Secs. 27, 32, 33, and 34, those portions lying outside the boundary of Gates of the Arctic National Preserve;

Secs. 35 and 36.

T. 14 S., R. 11 E., unsurveyed,

Secs. 1, 2, and 3;

Secs. 4 thru 7, those portions lying outside the boundary of Gates of the Arctic National Preserve;

Secs. 8 thru 36.

Tps. 15, 16, and 17 S., R. 11 E., unsurveyed.

Tps. 9 and 10 S., R. 12 E., unsurveyed.

T. 11 S., R. 12 E., unsurveyed,

Secs. 2 thru 11;

Sec. 17, N1/2;

Secs. 18 and 19 and secs. 29 thru 32.

Tps. 12 thru 15 S., R. 12 E., unsurveyed.

Tps. 9 and 10 S., Rs. 13 and 14 E., unsurveyed.

The areas described aggregate approximately 2,127,845 acres.

2. At 8 a.m. Alaska time on March 27, 2026, the lands described in Paragraph 1 shall be open to all forms of appropriation under the general public land laws, including location and entry under the mining laws, leasing under the Mineral Leasing Act of February 25, 1920, as amended, subject to valid existing rights, the provisions of existing withdrawals, other segregations of record, and the requirements of applicable law. All valid applications received at or prior to 8 a.m. Alaska time on March 27, 2026, shall be considered as simultaneously filed at that time. Those received thereafter shall be considered in the order of filing. Appropriation of any of the lands referenced in this PLO under the general mining laws prior to the date and time of revocation remain unauthorized. Any such attempted appropriation, including attempted adverse possession under 30 U.S.C. 38, shall vest no rights against the United States. State law governs acts required to establish a location and to initiate a right of possession where not in conflict with Federal law. The BLM will not intervene in disputes between rival locators over possessory rights since Congress has provided for such determinations in local courts.

(Authority: 43 U.S.C. 1714)

Doug Burgum,
Secretary of the Interior.

[FR Doc. 2026-03777 Filed 2-24-26; 8:45 am]

BILLING CODE 4331-10-P